DEPARTMENT OF TRANSPORTATION

Surface Transportation Board

[Docket No. FD 35460]

CSX Transportation, Inc.—Temporary Trackage Rights—Norfolk Southern Railway Company

Pursuant to a written trackage rights agreement dated January 16, 2011, Norfolk Southern Railway Company (NSR) has agreed to grant CSX Transportation, Inc. (CSXT) temporary overhead trackage rights generally between CSXT's connection to NSR's tracks at Deepwater, W.Va., milepost V434.1 located on the Vaco Branch via Alloy, W.Va., east to the connection with the Vaughn Railroad Company at milepost WV227.6, including all necessary tracks designated for the purposes of movement by NSR's operating officer, including head and tail room as necessary. The lines in question total 12.3 miles of track.

The exemption became effective on January 18, 2011, and will expire on July 1, 2011.¹ CSXT explains that the temporary trackage rights will permit it to resume overhead rail service to the Fola Coal Mine at Bickmore, W.Va.²

¹ By decision served on January 18, 2011, the Board granted CSXT's request for waiver of 49 CFR 1180.4(g) and allowed the exemption to become effective immediately.

² CSXT used to use its own line to serve this mine, but it cannot do so now, because a necessary bridge has been closed due to safety concerns since September 2010. After the closure, CSXT had been providing service to the mine over NSR lines pursuant to a detour agreement. That agreement has now expired. NSR is willing to continue to allow CSXT to use its lines to reach the mine, but NSR now wishes that such service be provided through temporary trackage rights. CSXT expects the bridge to be in service again by July 1, 2011.

As a condition to this exemption, any employees affected by the temporary trackage rights will be protected by the conditions imposed in Norfolk and Western Railway—Trackage Rights—Burlington Northern, 354 I.C.C. 605 (1978), as modified in Mendocino Coast Railway—Lease and Operate—California Western Railroad, 360 I.C.C. 653 (1980), and any employees affected by the discontinuance of those trackage rights will be protected by the conditions set out in Oregon Short Line Railroad—Abandonment Portion Goshen Branch Between Firth and Ammon, in Bingham and Bonneville Counties, Idaho, 360 I.C.C. 91 (1979).

This notice is filed under 49 CFR 1180.2(d)(8). If it contains false or misleading information, the exemption is void ab initio. Petitions to revoke the exemption under 49 U.S.C. 10502(d) may be filed at any time. The filing of a petition to revoke will not automatically stay the effectiveness of the exemption.

An original and 10 copies of all pleadings, referring to Docket No. FD 35460, must be filed with the Surface Transportation Board, 395 E Street, SW., Washington, DC 20423-0001. In addition, a copy of each pleading must be served on Louis E. Gitomer, Law Offices of Louis E. Gitomer, 600 Baltimore Avenue, Suite 301, Towson, MD 21204.

Board decisions and notices are available on our Web site at http://www.stb.dot.gov.

Decided: January 18, 2011.
By the Board.
Rachel D. Campbell,
Director, Office of Proceedings.
Jeffrey Herzig,
Clearance Clerk.

[FR Doc. 2011-1300 Filed 1-21-11; 8:45 am]

BILLING CODE 4915-01-P